DEPARTMENT OF ENERGY

Federal Energy Regulatory Commission

[Docket No. PR10-2-002]

Pelico Pipeline, LLC; Notice of Extension of Time

On November 30, 2011, Pelico Pipeline, LLC (PELICO) filed a request to extend the date for filing its next rate case pursuant to sections 284.224 and 284.123 (2011) of the Commission's regulations.¹ In support of this request, PELICO states that in Order No. 735 the Commission modified its policy concerning periodic reviews of rates charges by section 311 and Hinshaw pipelines to extend the cycle for such reviews from three to five years.² Therefore, PELICO requests that the date for its next rate filing be extended to November 1, 2014, which is five years from the date of PELICO's most recent rate filing with this Commission.

¹ 18 CFR 284.123 and 284.224 (2011).

² Contract Reporting Requirements of Intrastate Natural Gas Companies, Order No. 735, 131 FERC ¶ 61,150 (May 20, 2010).

Upon consideration, notice is hereby given that an extension of time for PELICO to file its section 284.123 rate petition is granted to and including November 1, 2014.

Dated: December 15, 2011.
Kimberly D. Bose,
Secretary.

[FR Doc. 2011-32736 Filed 12-21-11; 8:45 am]

BILLING CODE 6717-01-P